DEPARTMENT OF STATE

[Public Notice 4856]

Bureau of Nonproliferation; Determination on Export-Import Bank Support for U.S. Exports to Libya

AGENCY: Bureau of Nonproliferation, Department of State.

ACTION: Notice.

SUMMARY: Pursuant to section 2(b)(4) of the Export-Import Bank Act of 1945, as amended, the President has determined and certified to Congress that it is in the national interest for the Export-Import Bank to guarantee, insure, or extend credit, or participate in the extension of credit in support of United States exports to Libya.

EFFECTIVE DATE: November 13, 2004.

FOR FURTHER INFORMATION CONTACT: Caroline R. Russell, Office of Regional Affairs, Bureau of Nonproliferation, Department of State ((202) 647-9786).

SUPPLEMENTARY INFORMATION: In accordance with section 2(b)(4) of the Export-Import Bank Act of 1945, as amended, the Department of State determined that Libya has materially violated a safeguards agreement with the International Atomic Energy Agency (IAEA). This determination is based on the extensive Libyan nuclear activities conducted outside safeguards detailed in the IAEA Director General's February 20, 2004 report to the IAEA Board of Governors. It is also supported by the decision of the IAEA Board that Libya's failure to meet the requirements of its safeguards agreement “constituted noncompliance” pursuant to Article XII.C. of the IAEA statute. As a result of this determination, under section 2(b)(4) of the Export Import Bank Act of 1945, the Board of Directors of the Export Import Bank is prohibited from giving “approval to guarantee, insure, or extend credit, or participate in the extension of credit in support of United States exports” to Libya.

The President has determined and certified to Congress pursuant to section 2(b)(4) that “it is in the national interest” to waive the restrictions in the law and allow the Export-Import Bank to support United States exports to Libya. This Presidential determination removes this impediment to Export-Import Bank support for United States exports to Libya beginning November 13, 2004 (45 days after the date the President's determination and certification was submitted to Congress). The Export-Import Bank should be consulted about other legal provisions that may continue to restrict Export-Import Bank support for United States exports to Libya.

Dated: September 29, 2004.
Susan F. Burk,
Acting Assistant Secretary of State for Nonproliferation, Department of State.

[FR Doc. 04-22736 Filed 10-7-04; 8:45 am]

BILLING CODE 4710-27-P